NUCLEAR REGULATORY COMMISSION

[NRC-2026-0001]

Sunshine Act Meetings

TIME AND DATE: Weeks of March 2, 9 16, 23, and 30 and April 6, 2026. The schedule for Commission meetings is subject to change on short notice. The NRC Commission Meeting Schedule can be found on the internet at: https://www.nrc.gov/public-involve/public-meetings/schedule.html.

PLACE: The NRC provides reasonable accommodation to individuals with disabilities where appropriate. If you need a reasonable accommodation to participate in these public meetings or need this meeting notice or the transcript or other information from the public meetings in another format (e.g., braille, large print), please contact the Reasonable Accommodations Resource by email at Reasonable_Accommodations.Resource@nrc.gov. Determinations on requests for reasonable accommodation will be made on a case-by-case basis.

STATUS: Public and closed.

Members of the public may request to receive the information in these notices electronically. If you would like to be added to the distribution, please contact the Nuclear Regulatory Commission, Office of the Secretary, Washington, DC 20555, at 301-415-1969, or by email at Betty.Thweatt@nrc.gov or Samantha.Miklaszewski@nrc.gov.

MATTERS TO BE CONSIDERED:

Week of March 2, 2026

Tuesday, March 3, 2026

10:00 a.m. Briefing on NRC International Activities (Closed Ex. 1 and 9)

Wednesday, March 4, 2026

9:45 a.m. Affirmation Session (Public Meeting) (Tentative)

(a) Virginia Electric and Power Company (North Anna Power Station, Units 1 and 2); Appeal of LBP-24-7 (Tentative)

(b) Florida Power & Light Company (Turkey Point Nuclear Generating Units 3 and 4), Petition for Review of LBP-24-8 (Tentative)

(c) Notice and Order for Global Laser Enrichment, LLC Paducah Laser Enrichment Facility (Tentative)

(d) Freedom of Information Act Implementing Regulations (Tentative)

(e) Entergy Nuclear Operation, Inc., Entergy Nuclear Palisades, LLC, Holtec International, and Holtec Decommissioning International, LLC-Applicants' Motion to Dismiss the Contention as Moot and to Terminate the Proceeding (Tentative)

(Contact: Wesley Held: 301-287-3591)

Additional Information: The public is invited to observe the Commission's meeting live by webcast at the Web address— https://video.nrc.gov/.

Week of March 9, 2026—Tentative

There are no meetings scheduled for the week of March 9, 2026.

Week of March 16, 2026—Tentative

There are no meetings scheduled for the week of March 16, 2026.

Week of March 23, 2026—Tentative

There are no meetings scheduled for the week of March 23, 2026.

Week of March 30, 2026—Tentative

There are no meetings scheduled for the week of March 30, 2026.

Week of April 6, 2026—Tentative

There are no meetings scheduled for the week of April 6, 2026.

CONTACT PERSON FOR MORE INFORMATION: For more information or to verify the status of meetings, contact Wesley Held at 301-287-3591 or via email at Wesley.Held@nrc.gov.

The NRC is holding the meetings under the authority of the Government in the Sunshine Act, 5 U.S.C. 552b.

Dated: February 25, 2026.
For the Nuclear Regulatory Commission.
Wesley W. Held,
Policy Coordinator, Office of the Secretary.

[FR Doc. 2026-03998 Filed 2-25-26; 4:15 pm]

BILLING CODE 7590-01-P